DEPARTMENT OF STATE

[Public Notice 5744]

Bureau of Educational and Cultural Affairs (ECA) Request for Grant Proposals: Fulbright Program Offices, Russia, and Kyiv, Ukraine

Announcement Type: New Grant.

Funding Opportunity Number: ECA/A/E/EUR-08-02.

Catalog of Federal Domestic Assistance Number: 00.000.

Application Deadline: Friday, June 1, 2007.

Executive Summary: The Office of Academic Exchange Programs of the Bureau of Educational and Cultural Affairs (ECA) announces an open competition for organizations to serve as the fiscal disbursing agent and to provide administrative support for the Fulbright Program Offices in Moscow, Russia, and in Kyiv, Ukraine. Public and private non-profit organizations meeting the provisions described in IRS regulation 26 CFR 1.501(c) may submit proposals to provide these services to one or both Offices (Moscow and/or Kyiv). A separate proposal must be submitted for each country's office, i.e., organizations that apply for both the Moscow and Kyiv Offices must submit two discrete proposals for addressing the particular budgetary guidelines and any other country-specific requirements for each Office outlined in the RFGP.

I. Funding Opportunity Description

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Overview

The Fulbright Program Offices are responsible for the overseas management of ECA's Fulbright Program and other ECA educational exchange programs, which includes recruitment of visiting Fulbright students and scholars, placement and logistical support for U.S. Fulbright scholars and students located in Russia and Ukraine. ECA and the U.S. Embassy Public Affairs Sections (PAS) in Russia and Ukraine have full authority over all program operations, policy issues, and the selection and supervision of the Directors of the Fulbright Offices (who are U.S. citizens) and their staffs. Administration of the Russian and Ukraine Fulbright Programs is the responsibility of the Fulbright Program Office staff in their respective country.

Due to legal constraints and logistical obstacles, the U.S. Government is unable to provide operating funds directly to the Fulbright Offices in Russia and Ukraine. Thus, through this RFGP, ECA requests the services of a recipient organization to be responsible for disbursing U.S. Government funds in support of the activities of the Offices. This includes, but is not limited to, guaranteeing that rent and staff salaries are paid in a timely manner, providing funds for program activities and office supplies, maintaining a legal status in Russia and/or Ukraine and providing administrative services in order to ensure the smooth and continued operations of the Fulbright Program Offices. The specific duties of the ECA recipient organization requested in the RFGP are outlined below.

Purpose

The grantee organization will be responsible for the following:

1. Performing all legal requirements necessary to maintain the office space, staffing, and program activities of the Fulbright Program Offices in Moscow and/or Kyiv.

2. Demonstrating the ability, in terms of an accounting staff knowledgeable in Russian and/or Ukrainian law, to be able to provide the Fulbright Program Office with cash (dollars and/or rubles and/or hryvna) and/or pay bills directly.

3. Providing proof of legal status/registration as well as evidence of the ability to handle a wide range of payments in Russia and/or Ukraine and in the United States.

4. Oversight of a modest operating budget for the Fulbright Program Offices, including advancing budget funds to the Offices for programmatic as well as administrative activities. The grantee organization will not have oversight of Fulbright grant monies designated for students and scholars.

5. Payment of salaries and benefits—including housing allowances—for the American Director of the Fulbright Program Offices in Russia and/or Kyiv. The Directors' salaries will be determined by PAS and ECA.

6. Payment of salaries and benefits for local staff. Local staff salaries will be determined by PAS and ECA.

7. Assisting PAS and ECA in the recruitment of Fulbright Program Offices staff when vacancies occur. Final decisions on hiring will be made by PAS and ECA.

8. Consulting and cooperation, on administrative matters, with the U.S.-based organizations responsible for the administration of the Fulbright Program in the United States.

Programs must comply with J-1 visa regulations. Please refer to the Solicitation Package for further information.

Budget Guidelines

Applicants must submit comprehensive budgets with each proposal. Awards may not exceed $920,150 for the Moscow Office (or $975,590 should it become necessary to cover higher rent or a move to new office space); and $572,000 for the Kyiv Office. For the Moscow Office applicants, the budget submission should be based on the lower figure only. The budget must include all costs and indicate the percentage of time required for each activity for all program staff, charged to each specific project. The budget should also include any cost sharing in the form of allowable direct or indirect costs or in-kind or cash contributions. The total of any administrative pass-through charges of the grantee organization, including indirect costs or fees, should be approximately 15 percent of the total budget. As with other exchange programs, ECA is committed to containment of costs consistent with overall program objectives and sound management. Grant-funded items of expenditures may include but are not limited to the categories below. Applicant organizations are encouraged to note in their program budgets and narratives areas in which economies beyond ECA-allowable costs can be achieved.

Program costs may include but are not limited to:

(1) Program advertising and recruitment costs.

(2) Selection committee honoraria.

(3) Semi-finalist travel expenses for interviews in Moscow and/or Kyiv.

(4) Institutional TOEFL for Fulbright semi-finalists.

(5) Room rental fees for interviews and Institutional TOEFL.

(6) Recruitment travel in Russia and/or Ukraine by program staff, including per diem.

(7) Domestic travel for semi-finalists.

(8) Pre-departure orientation costs.

(9) Costs for two Russia Fulbright summer schools organized by the Moscow Fulbright Office.

(10) Alumni programming and tracking.

(11) Program evaluation.

Administrative costs may include but are not limited to:

(1) Russian/Ukrainian visas for Fulbright Director.

(2) Staff salaries and benefits, including housing allowance, for Fulbright Director.

(3) Rent and utilities for Moscow/Kyiv offices.

(4) Internet (e-mail, Web site support) and communications (e.g., fax, telephone, postage).

(5) Office supplies.

(6) Shipment of materials from Russia/Ukraine to the United States.

(7) Round-trip travel for home leave for the Fulbright Director to the United States (via American carrier).

(8) Administration of tax withholding as required by U.S. Federal, State and local authorities and in accordance with relevant tax treaties.

(9) A-135 audit fees.

A clear and cogent narrative must accompany the budget to explain and justify each line item. Please refer to the Proposal Submission Instructions (PSI) in the Solicitation Package for complete budget guidelines and formatting instructions. In addition, the budget narrative should indicate how the applicant organization will monitor and track expenditures for the duration of the grant to avoid under or over expenditures.

II. Award Information

Type of Award: Grant Agreement.

ECA's level of involvement in this program is listed under number I above.

Fiscal Year Funds: FY2008, pending availability of funds.

Approximate Total Funding: $920,150 (or $975,590 should a move to new office space become necessary) for the Moscow Office and $572,000 for the Kyiv Office, pending availability of funds.

Approximate Number of Awards: Two.

Anticipated Award Date: Pending availability of funds (Proposed award date: October 1, 2007).

Additional Information: Pending successful implementation of this program and the availability of funds in subsequent fiscal years, it is ECA's intent to renew this grant for two additional fiscal years, before openly competing it again.

III. Eligibility Information:

III.1. Eligible applicants: Applications may be submitted by public and private non-profit organizations meeting the provisions described in Internal Revenue Code section 26 U.S.C. 501(c)(3).

III.2. Cost Sharing or Matching Funds: There is no minimum or maximum percentage required for this competition. However, the Bureau encourages applicants to provide maximum levels of cost sharing and funding in support of its programs.

When cost sharing is offered, it is understood and agreed that the applicant must provide the amount of cost sharing as stipulated in its proposal and later included in an approved grant agreement. Cost sharing may be in the form of allowable direct or indirect costs. For accountability, you must maintain written records to support all costs which are claimed as your contribution, as well as costs to be paid by the Federal government. Such records are subject to audit. The basis for determining the value of cash and in-kind contributions must be in accordance with OMB Circular A-110, (Revised), Subpart C.23—Cost Sharing and Matching. In the event you do not provide the minimum amount of cost sharing as stipulated in the approved budget, ECA's contribution will be reduced in like proportion.

III.3. Other Eligibility Requirements:

(a) Bureau grant guidelines require that organizations with fewer than four years of experience in conducting international exchange programs be limited to $60,000 in Bureau funding. Therefore, organizations with fewer than four years experience in conducting international exchanges are ineligible to apply under this competition.

(b) Technical Eligibility: All proposals must comply with the following: proposals must demonstrate the applicant's capacity to meet all requirements governing the administration of Exchange Visitor (J visa) programs as set forth in 22 CFR 6Z, including the oversight of Responsible Officers and Alternate Responsible Officers, screening and selection of program participants, provision of pre-arrival information and orientation to participants, monitoring of participants, proper maintenance and security of forms, record-keeping, reporting and other requirements, or they will result in your proposal being declared technically ineligible and given no further consideration in the review process. The U.S.-based organization responsible for the administration of the Fulbright Program in the United States will be responsible for issuing DS-2019 forms to participants in this program.

IV. Application and Submission Information

Note: Please read the complete announcement before sending inquiries or submitting proposals. Once the RFGP deadline has passed, Bureau staff may not discuss this competition with applicants until the proposal review process has been completed.

IV.1. Contact Information to Request an Application Package

Please contact the Office of Academic Exchange Programs, ECA/A/E/EUR, SA-44, Room 246, U.S. Department of State, SA-44, 301 4th Street, SW., Washington, DC 20547, (202) 453-8522; fax (202) 453-8520, or E-mail IovineMS@state.gov to request a Solicitation Package. Please specify Bureau Program Officer Micaela S. Iovine on all inquiries and correspondence and refer to the Funding Opportunity Number (ECA/A/E/EUR 08-02) located at the top of this announcement when making your request. Alternatively, an electronic application package may be obtained from grants.gov. Please see section IV.2 for further information.

The Solicitation Package contains the Proposal Submission Instruction (PSI) document, which consists of required application forms, standard guidelines for proposal preparation, award criteria and budget instructions tailored to this competition.

IV.2. To Download a Solicitation Package Via Internet

The entire Solicitation Package may be downloaded from the Bureau's Web site at http://exchanges.state.gov/education/rfgps/menu.htm, or from the Grants.gov Web site at http://www.grants.gov.

Please read all information before downloading.

IV.3. Content and Form of Submission

Applicants must follow all instructions in the Solicitation Package. The application should be submitted per the instructions under section IV.3e. “Application Deadline and Methods of Submission” below.

IV.3a. Applicants are required to have a Dun and Bradstreet Data Universal Numbering System (DUNS) number to apply for a grant or cooperative agreement from the U.S. Government. This number is a nine-digit identification number that uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative and budget.

Please Refer to the Solicitation Package. It contains the mandatory Proposal Submission Instructions (PSI) document for additional formatting and technical requirements and the Project Objectives, Goals and Implementation (POGI) document.

IV.3c. Applicants must have nonprofit status with the IRS at the time of application. If your organization is a private nonprofit that has not received a grant or cooperative agreement from ECA in the past three years, or if your organization received nonprofit status from the IRS within the past four years, you must submit the necessary documentation to verify nonprofit status as directed in the PSI document. Failure to do so will cause your proposal to be declared technically ineligible.

IV.3d. Please take into consideration the following information when preparing your proposal narrative:

IV.3d.1 Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of the Exchange Visitor Programs as set forth in 22 CFR 62, including the oversight of Responsible Officers and Alternate Responsible Officers, screening and selection of program participants, provision of pre-arrival information and orientation to participants, monitoring of participants, proper maintenance and security of forms, record-keeping, reporting and other requirements. The U.S.-based organization responsible for the administration of the Fulbright Program in the United States will be responsible for issuing DS-2019 forms to participants in this program.

A copy of the complete regulations governing the administration of Exchange Visitor (J) programs is available at http://exchanges.state.gov or from: United States Department of State, Office of Exchange Coordination and Designation, ECA/EC/ECD-SA-44, Room 734, 301 4th Street, SW., Washington, DC 20547, Telephone: (202) 203-5029, Fax: (202) 453-8640.

Please refer to Solicitation Package for further information.

IV.3d.2 Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the “Support for Diversity” section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.3e Application Deadline and Methods of Submission

Application Deadline Date: June 1, 2007.

Reference Number: ECA/A/E/EUR-08-02.

Methods of Submission: Applications may be submitted in one of two ways:

(1) In hard-copy, via a nationally recognized overnight delivery service (i.e., DHL, Federal Express, UPS, Airborne Express, or U.S. Postal Service Express Overnight Mail, etc.), or

(2) Electronically through http://www.grants.gov.

Along with the Project Title, all applicants must enter the above Reference Number in Box 11 on the SF-424 contained in the mandatory Proposal Submission Instructions (PSI) of the solicitation document.

IV.3e.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM.”

The original and eight (8) copies of the application should be sent to: U.S. Department of State, SA-44, Bureau of Educational and Cultural Affairs, Ref.: ECA/A/E/EUR-08-02, Program Management, ECA/EX/PM, Room 534, 301 4th Street, SW., Washington, DC 20547.

IV.3e.2 Submitting Electronic Applications

Applicants have the option of submitting proposals electronically through Grants.gov (http://www.grants.gov). Complete solicitation packages are available at Grants.gov in the “Find” portion of the system. Please follow the instructions available in the “Get Started” portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. Therefore, we strongly recommend that you not wait until the application deadline to begin the submission process through Grants.gov.

Direct all questions regarding Grants.gov registration and submission to: Grants.gov Customer Support, Contact Center Phone: 800-518-4726. Business Hours: Monday-Friday, 7 a.m.-9 p.m. Eastern Time. E-mail: support@grants.gov.

Applicants have until midnight (12 a.m.), Washington, DC, time of the closing date to ensure that their entire application has been uploaded to the Grants.gov site. There are no exceptions to the above deadline. Applications uploaded to the site after midnight of the application deadline date will be automatically rejected by the grants.gov system, and will be technically ineligible.

Applicants will receive a confirmation e-mail from grants.gov upon the successful submission of an application. ECA will not notify you upon receipt of electronic applications.

It is the responsibility of all applicants submitting proposals via the Grants.gov web portal to ensure that proposals have been received by Grants.gov in their entirety, and ECA bears no responsibility for data errors resulting from transmission or conversion processes.

IV.3f. Intergovernmental Review of Applications: Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State Assistant Secretary for Educational and Cultural Affairs. Final technical authority for assistance awards grants resides with the Bureau's Grants Officer.

Review Criteria

Technically eligible applications will be competitively reviewed according to the criteria stated below. These criteria are not rank ordered and all carry equal weight in the proposal evaluation:

1. Program Planning: Proposals should clearly demonstrate how the organization will meet the program's objectives and plan. Detailed agenda and relevant work plan should demonstrate substantive undertakings and logistical capacity. Agenda and plan should adhere to the program overview and guidelines described above.

2. Institutional Capacity: Proposed personnel and institutional resources should be adequate and appropriate to achieve the program's goals.

3. Support of Diversity: Proposals should demonstrate substantive support of the Bureau's policy on diversity.

4. Institution's Record/Ability: Proposals should demonstrate an institutional record of successful exchange program administration, particularly responsible fiscal management, and full compliance with all reporting requirements for any past Bureau grants as determined by Bureau Grants Staff. The Bureau will consider the past performance of prior recipients and the demonstrated potential of new applicants.

5. Project Evaluation: Proposals should include a plan to evaluate the success of the fiduciary arrangement and make recommendations for improving the process in the future.

6. Cost-effectiveness/cost-sharing: The overhead and administrative components of the proposal, including salaries, should be kept as low as possible. All other items should be necessary and appropriate.

VI. Award Administration Information

VI.1. Award Notices

Final awards cannot be made until funds have been appropriated by Congress, allocated and committed through internal Bureau procedures. Successful applicants will receive an Assistance Award Document (AAD) from the Bureau's Grants Office. The AAD and the original grant proposal with subsequent modifications (if applicable) shall be the only binding authorizing document between the recipient and the U.S. Government. The AAD will be signed by an authorized Grants Officer, and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), “Uniform Administrative Requirements for Grants and Agreements with Institutions of Higher Education, Hospitals, and other Nonprofit Organizations.”

OMB Circular No. A-102, “Uniform Administrative Requirements for Grants-in-Aid to State and Local Governments.”

OMB Circular No. A-133, “Audits of States, Local Government, and Non-profit Organizations.”

Please reference the following Web sites for additional information: http://www.whitehouse.gov/omb/grants. http://exchanges.state.gov/education/grantsdiv/terms.htm#articleI.

VI.3. Reporting Requirements

The grantee must provide ECA with a hard copy original plus two copies of the following reports:

(1) A final financial report no more than 90 days after the expiration of the award;

(2) Quarterly financial reports that should show the disposition of funds for purposes as required in the grant.

All reports must be sent to the ECA Grants Officer and ECA Program Officer listed in the final assistance award document.

VII. Agency Contacts

For questions about this announcement, contact: Micaela S. Iovine, Office of Academic Exchange Programs, ECA/A/E/EUR, Room 246, ECA/A/E/EUR-08-02 U.S. Department of State, SA-44, 301 4th Street, SW., Washington, DC 20547, tel. (202) 453-8522; fax (202)453-8520, IovineMS@state.gov.

All correspondence with the Bureau concerning this RFGP should reference the above title and number ECA/A/E/EUR-08-02.

VIII. Other Information

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements per section VI.3 above.

Dated: March 29, 2007.
Dina Habib Powell,
Assistant Secretary for Educational and Cultural Affairs, Department of State.

[FR Doc. E7-6359 Filed 4-4-07; 8:45 am]

BILLING CODE 4710-05-P